DEPARTMENT OF ENERGY

Federal Energy Regulatory Commission

Combined Notice of Filings #1

Take notice that the Commission received the following electric rate filings:

Docket Numbers: ER10-2881-014; ER10-2882-014; ER10-2883-014; ER10-2884-014; ER10-2885-014; ER10-2641-014; ER10-2663-014; ER10-2886-014; ER13-1101-009; ER13-1541-008; ER14-787-002.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC.

Description: Second Supplement to June 30, 2014 Updated Market Power Analysis of Alabama Power Company, et. al.

Filed Date: 3/20/15.

Accession Number: 20150320-5274.

Comments Due: 5 p.m. ET 4/10/15.

Docket Numbers: ER13-1929-001.

Applicants: Florida Power & Light Company.

Description: Compliance filing per 35: FPL's Second Order No. 1000 Interregional Further Regional Compliance Filings to be effective 1/1/2015.

Filed Date: 3/24/15.

Accession Number: 20150324-5223.

Comments Due: 5 p.m. ET 4/14/15.

Docket Numbers: ER13-1940-002.

Applicants: Ohio Valley Electric Corporation.

Description: Compliance filing per 35: Interregional Compliance Filing for the SERTP-FRCC and SERTP-SCRTP Seams to be effective 1/1/2015.

Filed Date: 3/24/15.

Accession Number: 20150324-5189.

Comments Due: 5 p.m. ET 4/14/15.

Docket Numbers: ER15-1016-000.

Applicants: Shafter Solar, LLC.

Description: Supplement to February 9, 2015 Shafter Solar, LLC tariff filing.

Filed Date: 3/24/15.

Accession Number: 20150324-5240.

Comments Due: 5 p.m. ET 4/14/15.

Docket Numbers: ER15-1368-000.

Applicants: Midcontinent Independent System Operator, Inc.

Description: Section 205(d) rate filing per 35.13(a)(2)(iii): 2015-03-24_SA 2762 ATC-UPPCo Project Commitment Agreement to be effective 5/24/2015.

Filed Date: 3/24/15.

Accession Number: 20150324-5193.

Comments Due: 5 p.m. ET 4/14/15.

Docket Numbers: ER15-1369-000.

Applicants: Southern California Edison Company.

Description: Section 205(d) rate filing per 35.13(a)(2)(iii): Amended Service Agmt for Wholesale Distribution Service with Mogul Energy to be effective 5/25/2015.

Filed Date: 3/25/15.

Accession Number: 20150325-5001.

Comments Due: 5 p.m. ET 4/15/15.

Docket Numbers: ER15-1370-000.

Applicants: Southwest Power Pool, Inc.

Description: Section 205(d) rate filing per 35.13(a)(2)(iii): 3001 KCP&L GMO and AECI Interconnection Agreement to be effective 2/25/2015.

Filed Date: 3/25/15.

Accession Number: 20150325-5064.

Comments Due: 5 p.m. ET 4/15/15.

Docket Numbers: ER15-1371-000.

Applicants: Midcontinent Independent System Operator, Inc.

Description: Notice of Termination of the Large Generator Interconnection Agreement No. 719 of Midcontinent Independent System Operator, Inc.

Filed Date: 3/25/15.

Accession Number: 20150325-5094.

Comments Due: 5 p.m. ET 4/15/15.

Take notice that the Commission received the following electric reliability filings.

Docket Numbers: RD15-3-000.

Applicants: North American Electric Reliability Corporation.

Description: Supplemental Petition of the North American Electric Reliability Corporation for Approval of Proposed Reliability Standards PRC-001-1.1(ii), PRC-019-2 and PRC-024-2.

Filed Date: 3/13/15.

Accession Number: 20150313-5161.

Comments Due: 5 p.m. ET 4/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2015.
Nathaniel J. Davis, Sr.,
Deputy Secretary.

[FR Doc. 2015-07303 Filed 3-30-15; 8:45 am]

BILLING CODE 6717-01-P